DEPARTMENT OF ENERGY

Federal Energy Regulatory Commission

[Docket No. CP18-69-000]

Tristate NLA, LLC; Notice of Petition for Declaratory Order

Take notice that on January 26, 2018, Tristate NLA, LLC (Tristate), 9901 Valley Ranch Parkway East, Suite 2000, Irving, Texas 75063, filed in Docket No. CP18-69-000 a petition for declaratory order pursuant to Rule 207 of the Commission's Rules of Practice and Procedure (18 CFR 385.207), seeking a ruling that upon the abandonment and sale to Tristate of approximately 189.8 miles of various diameter pipelines and appurtenant facilities proposed by Gulf South Pipeline Company, LP (Gulf South) in Docket No. CP18-66-000 approximately (i) 155.8 miles of pipelines and appurtenant facilities will perform a gathering function, and therefore will be exempt from the Commission's jurisdiction pursuant to section 1(b) of the Natural Gas Act (NGA); (ii) 15.2 miles of pipelines and appurtenant facilities will be operated as Hinshaw, and therefore will be exempt from the Commission's jurisdiction pursuant to section 1(c) of the NGA; and (iii) 18.8 miles as intrastate pipelines subject to the jurisdiction of the Texas Railroad Commission, all as more fully set forth in the petition which is on file with the Commission and open to public inspection.

The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

There are two ways to become involved in the Commission's review of this project. First, any person wishing to obtain legal status by becoming a party to the proceedings for this project should, on or before the comment date stated below, file with the Federal Energy Regulatory Commission, 888 First Street NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit five copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests and interventions in lieu of paper using the “eFiling” link at http://www.ferc.gov. Persons unable to file electronically should submit original and five copies of the protest or intervention to the Federal Energy Regulatory Commission, 888 First Street NE, Washington, DC 20426.

Comment Date: 5:00 p.m. Eastern Time on March 1, 2018.

Dated: February 8, 2018.
Nathaniel J. Davis, Sr.,
Deputy Secretary.

[FR Doc. 2018-03022 Filed 2-13-18; 8:45 am]

BILLING CODE 6717-01-P